DEPARTMENT OF ENERGY

Federal Energy Regulatory Commission

Combined Notice of Filings #1

Take notice that the Commission received the following electric corporate filings:

Docket Numbers: EC21-63-000.

Applicants: Effingham County Power, LLC.

Description: Supplement to March 3, 2021 Application for Authorization Under Section 203 of the Federal Power Act of Effingham County Power, LLC.

Filed Date: 5/28/21.

Accession Number: 20210528-5520.

Comments Due: 5 p.m. ET 6/4/21.

Docket Numbers: EC21-98-000.

Applicants: AP Gas & Electric (NY), LLC.

Description: Application for Authorization Under Section 203 of the Federal Power Act of AP Gas & Electric (NY), LLC.

Filed Date: 5/28/21.

Accession Number: 20210528-5407.

Comments Due: 5 p.m. ET 6/18/21.

Take notice that the Commission received the following exempt wholesale generator filings:

Docket Numbers: EG21-162-000.

Applicants: Phoenix 500, LLC.

Description: Phoenix 500, LLC submits Notice of Self Certification of Exempt Wholesale Generator Status.

Filed Date: 5/28/21.

Accession Number: 20210528-5397.

Comments Due: 5 p.m. ET 6/18/21.

Docket Numbers: EG21-163-000.

Applicants: Phoenix 820, LLC.

Description: Phoenix 820, LLC submits Notice of Self-Certification of Exempt Wholesale Generator Status.

Filed Date: 5/28/21.

Accession Number: 20210528-5402.

Comments Due: 5 p.m. ET 6/18/21.

Take notice that the Commission received the following electric rate filings:

Docket Numbers: ER10-2437-016.

Applicants: Arizona Public Service Company.

Description: Notice of Change in Status of Arizona Public Service Company.

Filed Date: 5/28/21.

Accession Number: 20210528-5413.

Comments Due: 5 p.m. ET 6/18/21.

Docket Numbers: ER20-1039-002.

Applicants: GridLiance Heartland LLC.

Description: Compliance filing: GLH ITA Amended Compliance Filing ER20-1039 to be effective 3/1/2020.

Filed Date: 5/28/21.

Accession Number: 20210528-5343.

Comments Due: 5 p.m. ET 6/18/21.

Docket Numbers: ER20-2125-000.

Applicants: WGP Redwood Holdings, LLC.

Description: Further Supplement to the June 22, 2020 WGP Redwood Holdings, LLC tariff filing.

Filed Date: 5/27/21.

Accession Number: 20210527-5268.

Comments Due: 5 p.m. ET 6/17/21.

Docket Numbers: ER20-2148-004.

Applicants: Lexington Chenoa Wind Farm LLC.

Description: Compliance filing: Compliance filing for Docket ER20-2148 to be effective 8/24/2020.

Filed Date: 6/1/21.

Accession Number: 20210601-5046.

Comments Due: 5 p.m. ET 6/22/21.

Docket Numbers: ER21-2038-000.

Applicants: Basin Electric Power Cooperative.

Description: § 205(d) Rate Filing: Submission of Revised Missouri Basin Power Project Agreements to be effective 12/31/9998.

Filed Date: 5/28/21.

Accession Number: 20210528-5391.

Comments Due: 5 p.m. ET 6/11/21.

Docket Numbers: ER21-2039-000.

Applicants: Tri-State Generation and Transmission Association, Inc.

Description: § 205(d) Rate Filing: Certificates of Concurrence for Amended MBPP Agreements to be effective 12/31/9998.

Filed Date: 5/28/21.

Accession Number: 20210528-5392.

Comments Due: 5 p.m. ET 6/18/21.

Docket Numbers: ER21-2040-000.

Applicants: California Independent System Operator Corporation.

Description: Petition for Approval of Disposition of Penalty Assessment Proceeds and non-Refundable Interconnection Financial Security of the California Independent System Operator Corporation.

Filed Date: 5/28/21.

Accession Number: 20210528-5488.

Comments Due: 5 p.m. ET 6/18/21.

Docket Numbers: ER21-2041-000.

Applicants: PJM Interconnection, L.L.C.

Description: § 205(d) Rate Filing: Original WMPA, Service Agreement No. 6082; Queue No. AF1-039 to be effective 4/30/2021.

Filed Date: 6/1/21.

Accession Number: 20210601-5014.

Comments Due: 5 p.m. ET 6/22/21.

Docket Numbers: ER21-2042-000.

Applicants: PJM Interconnection, L.L.C.

Description: § 205(d) Rate Filing: Original WMPA, Service Agreement No. 6085; Queue No. AF2-275 to be effective 5/4/2021.

Filed Date: 6/1/21.

Accession Number: 20210601-5030.

Comments Due: 5 p.m. ET 6/22/21.

Docket Numbers: ER21-2043-000.

Applicants: PJM Interconnection, L.L.C.

Description: § 205(d) Rate Filing: Updated Effective Load Carrying Capability Construct, Effective August 1, 2021 to be effective 8/1/2021.

Filed Date: 6/1/21.

Accession Number: 20210601-5065.

Comments Due: 5 p.m. ET 6/22/21.

Docket Numbers: ER21-2044-000.

Applicants: Southwest Power Pool, Inc.

Description: § 205(d) Rate Filing: 1166R36 Oklahoma Municipal Power Authority NITSA NOA to be effective 8/1/2021.

Filed Date: 6/1/21.

Accession Number: 20210601-5127.

Comments Due: 5 p.m. ET 6/22/21.

Docket Numbers: ER21-2045-000.

Applicants: Tri-State Generation and Transmission Association, Inc.

Description: § 205(d) Rate Filing: Initial Filing of Rate Schedule FERC No. 320 to be effective 5/27/2021.

Filed Date: 6/1/21.

Accession Number: 20210601-5151.

Comments Due: 5 p.m. ET 6/22/21.

Docket Numbers: ER21-2046-000.

Applicants: Equilon Enterprises LLC.

Description: § 205(d) Rate Filing: Revised Market-Based Rate Tariff to be effective 6/2/2021.

Filed Date: 6/1/21.

Accession Number: 20210601-5165.

Comments Due: 5 p.m. ET 6/22/21.

Docket Numbers: ER21-2047-000.

Applicants: Southwest Power Pool, Inc.

Description: § 205(d) Rate Filing: 3215R10 People's Electric Cooperative NITSA NOA to be effective 8/1/2021.

Filed Date: 6/1/21.

Accession Number: 20210601-5193.

Comments Due: 5 p.m. ET 6/22/21.

Docket Numbers: ER21-2048-000.

Applicants: Sac County Wind, LLC.

Description: Baseline eTariff Filing: Sac County Wind, LLC Application for MBR Authority to be effective 8/1/2021.

Filed Date: 6/1/21.

Accession Number: 20210601-5213.

Comments Due: 5 p.m. ET 6/22/21.

Docket Numbers: ER21-2049-000.

Applicants: Pacific Gas and Electric Company.

Description: Notice of Termination of Service Agreement No. 7 with West Contra Costa Energy Recovery Company Incorporated of Pacific Gas and Electric Company.

Filed Date: 6/1/21.

Accession Number: 20210601-5221.

Comments Due: 5 p.m. ET 6/22/21.

Docket Numbers: ER21-2050-000.

Applicants: Midcontinent Independent System Operator, Inc., Consumers Energy Company.

Description: § 205(d) Rate Filing: 2021-06-01_Consumers Energy Exit Filing to be effective 12/31/9998.

Filed Date: 6/1/21.

Accession Number: 20210601-5230.

Comments Due: 5 p.m. ET 6/22/21.

Take notice that the Commission received the following electric securities filings:

Docket Numbers: ES21-48-000.

Applicants: Northern Indiana Public Service Company.

Description: Application under Section 204 of the Federal Power Act for Authorization to Issue Securities of Northern Indiana Public Service Company LLC.

Filed Date: 5/28/21.

Accession Number: 20210528-5491.

Comments Due: 5 p.m. ET 6/18/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 1, 2021.
Debbie-Anne A. Reese,
Deputy Secretary.

[FR Doc. 2021-11869 Filed 6-4-21; 8:45 am]

BILLING CODE 6717-01-P